DEPARTMENT OF HOMELAND SECURITY

Office of the Secretary

6 CFR Chs. I and II

[DHS Docket No. OGC-RP-04-001]

Unified Agenda of Federal Regulatory and Deregulatory Actions

AGENCY: Office of the Secretary, DHS.

ACTION: Semiannual regulatory agenda.

SUMMARY: This regulatory agenda is a semiannual summary of projected regulations, existing regulations, and completed actions of the Department of Homeland Security (DHS) and its components. This agenda provides the public with information about DHS's regulatory and deregulatory activity. DHS expects that this information will enable the public to be more aware of, and effectively participate in, the Department's regulatory and deregulatory activity. DHS invites the public to submit comments on any aspect of this agenda.

FOR FURTHER INFORMATION CONTACT:

General

Please direct general comments and inquiries on the agenda to the Regulatory Affairs Law Division, Office of the General Counsel, U.S. Department of Homeland Security, 245 Murray Lane, Mail Stop 0485, Washington, DC 20528-0485.

Specific

Please direct specific comments and inquiries on individual actions identified in this agenda to the individual listed in the summary portion as the point of contact for that action.

SUPPLEMENTARY INFORMATION: DHS provides this notice pursuant to the requirements of the Regulatory Flexibility Act (Pub. L. 96-354, Sept. 19, 1980) and Executive Order 12866 “Regulatory Planning and Review” (Sept. 30, 1993) as incorporated in Executive Order 13563 “Improving Regulation and Regulatory Review” (Jan. 18, 2011) and Executive Order 13771 “Reducing Regulation and Controlling Regulatory Costs” (Jan. 30, 2017), which require the Department to publish a semiannual agenda of regulations. The regulatory agenda is a summary of existing and projected regulations as well as actions completed since the publication of the last regulatory agenda for the Department. DHS's last semiannual regulatory agenda was published on August 24, 2017, at 82 FR 40290.

Beginning in fall 2007, the internet became the basic means for disseminating the Unified Agenda. The complete Unified Agenda is available online at www.reginfo.gov.

The Regulatory Flexibility Act (5 U.S.C. 602) requires Federal agencies to publish their regulatory flexibility agendas in the Federal Register. A regulatory flexibility agenda shall contain, among other things, a brief description of the subject area of any rule which is likely to have a significant economic impact on a substantial number of small entities. DHS's printed agenda entries include regulatory actions that are in the Department's regulatory flexibility agenda. Printing of these entries is limited to fields that contain information required by the agenda provisions of the Regulatory Flexibility Act. Additional information on these entries is available in the Unified Agenda published on the internet.

The semiannual agenda of the Department conforms to the Unified Agenda format developed by the Regulatory Information Service Center.

Dated: September 29, 2017.
Christina E. McDonald,
Associate General Counsel for Regulatory Affairs.

Office of the Secretary—Long-Term Actions
Sequence No. | Title | Regulation Identifier No.
263 | Ammonium Nitrate Security Program | 1601-AA52
264 | Chemical Facility Anti-Terrorism Standards (CFATS) | 1601-AA69
265 | Homeland Security Acquisition Regulation, Enhancement of Whistleblower Protections for Contractor Employees | 1601-AA72
266 | Homeland Security Acquisition Regulation: Safeguarding of Controlled Unclassified Sensitive Information (HSAR Case 2015-001) | 1601-AA76
267 | Homeland Security Acquisition Regulation: Information Technology Security Awareness Training (HSAR Case 2015-002) | 1601-AA78
268 | Homeland Security Acquisition Regulation: Privacy Training (HSAR Case 2015-003) | 1601-AA79

U.S. Citizenship and Immigration Services—Proposed Rule Stage
Sequence No. | Title | Regulation Identifier No.
269 | Registration Requirement for Petitioners Seeking To File H-1B Petitions on Behalf of Aliens Subject to Numerical Limitations (Reg Plan Seq No. 44) | 1615-AB71
270 | Requirements for Filing Motions and Administrative Appeals | 1615-AB98
271 | EB-5 Immigrant Investor Regional Center Program (Reg Plan Seq No. 46) | 1615-AC11
272 | Removing H-4 Dependent Spouses from the Class of Aliens Eligible for Employment Authorization (Reg Plan Seq No. 48) | 1615-AC15
References in boldface appear in The Regulatory Plan in part II of this issue of the Federal Register.

U.S. Citizenship and Immigration Services—Final Rule Stage
Sequence No. | Title | Regulation Identifier No.
273 | EB-5 Immigrant Investor Program Modernization (Reg Plan Seq No. 49) | 1615-AC07
References in boldface appear in The Regulatory Plan in part II of this issue of the Federal Register.

U.S. Coast Guard—Proposed Rule Stage
Sequence No. | Title | Regulation Identifier No.
274 | Financial Responsibility—Vessels; Superseded Pollution Funds (USCG-2017-0788) | 1625-AC39

U.S. Coast Guard—Final Rule Stage
Sequence No. | Title | Regulation Identifier No.
275 | Seafarers' Access to Maritime Facilities | 1625-AC15

U.S. Coast Guard—Long-Term Actions
Sequence No. | Title | Regulation Identifier No.
276 | Outer Continental Shelf Activities | 1625-AA18
277 | Commercial Fishing Vessels—Implementation of 2010 and 2012 Legislation | 1625-AB85

U.S. Customs and Border Protection—Long-Term Actions
Sequence No. | Title | Regulation Identifier No.
278 | Importer Security Filing and Additional Carrier Requirements (Section 610 Review) | 1651-AA70
279 | Implementation of the Guam-CNMI Visa Waiver Program (Section 610 Review) | 1651-AA77

U.S. Customs and Border Protection—Completed Actions
Sequence No. | Title | Regulation Identifier No.
280 | Waiver of Passport and Visa Requirements Due to an Unforeseen Emergency | 1651-AA97

Transportation Security Administration—Proposed Rule Stage
Sequence No. | Title | Regulation Identifier No.
281 | General Aviation Security and Other Aircraft Operator Security | 1652-AA53

Transportation Security Administration—Final Rule Stage
Sequence No. | Title | Regulation Identifier No.
282 | Security Training for Surface Transportation Employees (Reg Plan Seq No. 57) | 1652-AA55
References in boldface appear in The Regulatory Plan in part II of this issue of the Federal Register.

U.S. Immigration and Customs Enforcement—Proposed Rule Stage
Sequence No. | Title | Regulation Identifier No.
283 | Procedures and Standards for Declining Surety Immigration Bonds and Administrative Appeal Requirement for Breaches | 1653-AA67

Federal Emergency Management Agency—Proposed Rule Stage
Sequence No. | Title | Regulation Identifier No.
284 | Updates to Floodplain Management and Protection of Wetlands Regulations to Implement Executive Order 13690 and the Federal Flood Risk Management Standard | 1660-AA85

DEPARTMENT OF HOMELAND SECURITY (DHS)

Office of the Secretary (OS)

Long-Term Actions

263. Ammonium Nitrate Security Program

E.O. 13771 Designation: Other.

Legal Authority: 6 U.S.C. 488 et seq.

Abstract: This rulemaking will implement the December 2007 amendment to the Homeland Security Act entitled “Secure Handling of Ammonium Nitrate.” The amendment requires the Department of Homeland Security to “regulate the sale and transfer of ammonium nitrate by an ammonium nitrate facility . . . to prevent the misappropriation or use of ammonium nitrate in an act of terrorism.”

Timetable:

Action | Date | FR Cite
ANPRM | 10/29/08 | 73 FR 64280
Correction | 11/05/08 | 73 FR 65783
ANPRM Comment Period End | 12/29/08 |
NPRM | 08/03/11 | 76 FR 46908
Notice of Public Meetings | 10/07/11 | 76 FR 62311
Notice of Public Meetings | 11/14/11 | 76 FR 70366
NPRM Comment Period End | 12/01/11
Next Action Undetermined

Regulatory Flexibility Analysis Required: Yes.

Agency Contact: Jon MacLaren, Chief, Rulemaking Section, Department of Homeland Security, National Protection and Programs Directorate, Infrastructure Security Compliance Division (NPPD/ISCD), 245 Murray Lane, Mail Stop 0610, Arlington, VA 20528-0610, Phone: 703 235-5263, Fax: 703 603-4935, Email: jon.m.maclaren@hq.dhs.gov.

RIN: 1601-AA52

264. Chemical Facility Anti-Terrorism Standards (CFATS)

E.O. 13771 Designation: Other.

Legal Authority: 6 U.S.C. 621 to 629

Abstract: The Department of Homeland Security (DHS) previously invited public comment on an advance notice of proposed rulemaking (ANPRM) for potential revisions to the Chemical Facility Anti-Terrorism Standards (CFATS) regulations. The ANPRM provided an opportunity for the public to provide recommendations for possible program changes. DHS is reviewing the public comments received in response to the ANPRM, after which DHS intends to publish a Notice of Proposed Rulemaking.

Timetable:

Action | Date | FR Cite
ANPRM | 08/18/14 | 79 FR 48693
ANPRM Comment Period End | 10/17/14
NPRM | To Be Determined

Regulatory Flexibility Analysis Required: Yes.

Agency Contact: Jon MacLaren, Chief, Rulemaking Section, Department of Homeland Security, National Protection and Programs Directorate, Infrastructure Security Compliance Division (NPPD/ISCD), 245 Murray Lane, Mail Stop 0610, Arlington, VA 20528-0610, Phone: 703 235-5263, Fax: 703 603-4935, Email: jon.m.maclaren@hq.dhs.gov.

RIN: 1601-AA69

265. Homeland Security Acquisition Regulation, Enhancement of Whistleblower Protections for Contractor Employees

E.O. 13771 Designation: Other.

Legal Authority: Sec. 827 of the National Defense Authorization Act (NDAA) for Fiscal Year 2013, (Pub. L. 112-239, enacted January 2, 2013); 41 U.S.C. 1302(a)(2); 41 U.S.C. 1707

Abstract: The Department of Homeland Security (DHS) is proposing to amend its Homeland Security Acquisition Regulation (HSAR) parts 3003 and 3052 to implement section 827 of the National Defense Authorization Act (NDAA) for Fiscal Year (FY) 2013 (Pub. L. 112-239, enacted January 2, 2013) for the United States Coast Guard (USCG). Section 827 of the NDAA for FY 2013 established enhancements to the Whistleblower Protections for Contractor Employees for all agencies subject to section 2409 of title 10, United States Code, which includes the USCG.

Timetable:

Action | Date | FR Cite
NPRM | To Be Determined

Regulatory Flexibility Analysis Required: Yes.

Agency Contact: Nancy Harvey, Policy Analyst, Department of Homeland Security, Office of the Chief Procurement Officer, Room 3636-15, 301 7th Street SW, Washington, DC 20528, Phone: 202 447-0956, Email: nancy.harvey@hq.dhs.gov.

RIN: 1601-AA72

266. Homeland Security Acquisition Regulation: Safeguarding of Controlled Unclassified Sensitive Information (HSAR Case 2015-001)

E.O. 13771 Designation: Fully or Partially Exempt.

Legal Authority: 5 U.S.C. 301 to 302; 41 U.S.C. 1302; 41 U.S.C. 1303; 41 U.S.C. 1707

Abstract: This Homeland Security Acquisition Regulation (HSAR) rule would implement adequate security and privacy measures to safeguard Controlled Unclassified Information (CUI), such as Personally Identifiable Information (PII), for DHS contractors. Specifically, the rule would define key terms, outline security requirements and inspection provisions for contractor information technology (IT) systems that store or process sensitive information, institute incident notification and response procedures, and identify post-incident credit monitoring requirements.

Timetable:

Action | Date | FR Cite
NPRM | 01/19/17 | 82 FR 6429
NPRM Comment Period End | 03/20/17 |
NPRM Comment Period Extended | 03/20/17 | 82 FR 14341
NPRM Comment Period Extended End | 04/19/17
Final Rule | To Be Determined

Regulatory Flexibility Analysis Required: Yes.

Agency Contact: Shaundra Duggans, Procurement Analyst, Department of Homeland Security, Office of the Chief Procurement Officer, Acquisition Policy and Legislation, Room 3114, 245 Murray Lane, Washington, DC 20528, Phone: 202 447-0056, Email: shaundra.duggans@hq.dhs.gov.

Nancy Harvey, Policy Analyst, Department of Homeland Security, Office of the Chief Procurement Officer, Room 3636-15, 301 7th Street SW, Washington, DC 20528, Phone: 202 447-0956, Email: nancy.harvey@hq.dhs.gov.

RIN: 1601-AA76

267. Homeland Security Acquisition Regulation: Information Technology Security Awareness Training (HSAR Case 2015-002)

E.O. 13771 Designation: Fully or Partially Exempt.

Legal Authority: 5 U.S.C. 301 and 302; 41 U.S.C. 1707; 41 U.S.C. 1302; 41 U.S.C. 1303

Abstract: This Homeland Security Acquisition Regulation (HSAR) rule would standardize information technology security awareness training and DHS Rules of Behavior requirements for contractor and subcontractor employees who access DHS information systems and information resources or contractor-owned and/or operated information systems and information resources capable of collecting, processing, storing or transmitting controlled unclassified information (CUI).

Timetable:

Action | Date | FR Cite
NPRM | 01/19/17 | 82 FR 6446
NPRM Comment Period End | 03/20/17 |
NPRM Comment Period Extended | 03/20/17 | 82 FR 14341
NPRM Comment Period Extended End | 04/19/17
Final Rule | To Be Determined

Regulatory Flexibility Analysis Required: Yes.

Agency Contact: Shaundra Duggans, Procurement Analyst, Department of Homeland Security, Office of the Chief Procurement Officer, Acquisition Policy and Legislation, Room 3114, 245 Murray Lane, Washington, DC 20528, Phone: 202 447-0056, Email: shaundra.duggans@hq.dhs.gov.

Nancy Harvey, Policy Analyst, Department of Homeland Security, Office of the Chief Procurement Officer, Room 3636-15, 301 7th Street SW, Washington, DC 20528, Phone: 202 447-0956, Email: nancy.harvey@hq.dhs.gov.

RIN: 1601-AA78

268. Homeland Security Acquisition Regulation: Privacy Training (HSAR Case 2015-003)

E.O. 13771 Designation: Fully or Partially Exempt.

Legal Authority: 5 U.S.C. 301 and 302; 41 U.S.C. 1707; 41 U.S.C. 1702; 41 U.S.C. 1303

Abstract: This Homeland Security Acquisition Regulation (HSAR) rule would require contractors to complete training that addresses the protection of privacy, in accordance with the Privacy Act of 1974, and the handling and safeguarding of Personally Identifiable Information and Sensitive Personally Identifiable Information.

Timetable:

Action | Date | FR Cite
NPRM | 01/19/17 | 82 FR 6425
NPRM Comment Period End | 03/20/17 |
NPRM Comment Period Extended | 03/20/17 | 82 FR 14341
NPRM Comment Period Extended End | 04/19/17
Final Rule | To Be Determined

Regulatory Flexibility Analysis Required: Yes.

Agency Contact: Candace Lightfoot, Procurement Analyst, Department of Homeland Security, Office of the Chief Procurement Officer, Acquisition Policy and Legislation, Room 3636-15, 301 7th Street SW, Washington, DC 20528, Phone: 202 447-0082, Email: candace.lightfoot@hq.dhs.gov.

Nancy Harvey, Policy Analyst, Department of Homeland Security, Office of the Chief Procurement Officer, Room 3636-15, 301 7th Street SW, Washington, DC 20528, Phone: 202 447-0956, Email: nancy.harvey@hq.dhs.gov.

RIN: 1601-AA79

DEPARTMENT OF HOMELAND SECURITY (DHS)

U.S. Citizenship and Immigration Services (USCIS)

Proposed Rule Stage

269. Registration Requirement for Petitioners Seeking To File H-1B Petitions on Behalf of Aliens Subject to Numerical Limitations

Regulatory Plan: This entry is Seq. No. 44 in part II of this issue of the Federal Register.

RIN: 1615-AB71

270. Requirements for Filing Motions and Administrative Appeals

E.O. 13771 Designation: Other.

Legal Authority: 5 U.S.C. 552; 5 U.S.C. 552a; 8 U.S.C. 1101; 8 U.S.C. 1103; 8 U.S.C. 1304; 6 U.S.C. 112

Abstract: This rule proposes to revise the requirements and procedures for the filing of motions and appeals before the Department of Homeland Security (DHS), U.S. Citizenship and Immigration Services (USCIS), and its Administrative Appeals Office (AAO). The proposed changes are intended to streamline the existing processes for filing motions and appeals and will reduce delays in the review and appellate process. This rule also proposes additional changes necessitated by the establishment of DHS and its components. The proposed changes are intended to promote simplicity, accessibility, and efficiency in the administration of USCIS appeals and motions. The Department also solicits public comment on proposed changes to the AAO's appellate jurisdiction.

Timetable:

Action | Date | FR Cite
NPRM | 09/00/18 |

Regulatory Flexibility Analysis Required: Yes.

Agency Contact: Charles “Locky” Nimick, Deputy Chief, Department of Homeland Security, U.S. Citizenship and Immigration Services, Administrative Appeals Office, 20 Massachusetts Avenue NW, Washington, DC 20529-2090, Phone: 703 224-4501, Email: charles.nimick@usics.dhs.gov.

RIN: 1615-AB98

271. EB-5 Immigrant Investor Regional Center Program

Regulatory Plan: This entry is Seq. No. 46 in part II of this issue of the Federal Register.

RIN: 1615-AC11

272. • Removing H-4 Dependent Spouses From the Class of Aliens Eligible for Employment Authorization

Regulatory Plan: This entry is Seq. No. 48 in part II of this issue of the Federal Register.

RIN: 1615-AC15

DEPARTMENT OF HOMELAND SECURITY (DHS)

U.S. Citizenship and Immigration Services (USCIS)

Final Rule Stage

273. EB-5 Immigrant Investor Program Modernization

Regulatory Plan: This entry is Seq. No. 49 in part II of this issue of the Federal Register.

RIN: 1615-AC07

DEPARTMENT OF HOMELAND SECURITY (DHS)

U.S. Coast Guard (USCG)

Proposed Rule Stage

274. • Financial Responsibility—Vessels; Superseded Pollution Funds (USCG-2017-0788)

E.O. 13771 Designation: Not subject to, not significant.

Legal Authority: 33 U.S.C. 2704; 33 U.S.C. 2716 and 2716a; 42 U.S.C. 9607 to 9609; 6 U.S.C. 552; E.O. 12580; sec. 7(b), 3 CFR, 1987; Comp., p. 193; E.O. 12777, secs. 4 and 5, 3 CFR, 1991 Comp., p. 351, as amended by E.O. 13286, Sec. 89, 3; 3 CFR, 2004 Comp., p. 166, and by E.O. 13638, sec. 1, 3 CFR, 2014 Comp., p. 227; Department of Homeland; Security Delegation Nos. 0170.1 and 5110, Revision 01

Abstract: The Coast Guard proposes to amend its rule on vessel financial responsibility to include tank vessels greater than 100 gross tons, to clarify and strengthen the rule's reporting requirements, to conform its rule to current practice, and to remove two superseded regulations. This rulemaking will ensure the Coast Guard has current information when there are significant changes in a vessel's operation, ownership, or evidence of financial responsibility, and reflect current best practices in the Coast Guard's management of the Certificate of Financial Responsibility program. This rulemaking will also promote the Coast Guard's missions of maritime stewardship, maritime security and maritime safety.

Timetable:

Action | Date | FR Cite
NPRM | 12/00/17 |

Regulatory Flexibility Analysis Required: Yes.

Agency Contact: Benjamin White, Project Manager, National Pollution Funds Center, Department of Homeland Security, U.S. Coast Guard, NPFC MS 7100, 4200 Wilson Boulevard, Arlington, VA 20598-7100, Phone: 202 493-6863, Email: benjamin.h.white@uscg.mil.

RIN: 1625-AC39

DEPARTMENT OF HOMELAND SECURITY (DHS)

U.S. Coast Guard (USCG)

Final Rule Stage

275. Seafarers' Access to Maritime Facilities

E.O. 13771 Designation: Not subject to, not significant.

Legal Authority: 33 U.S.C. 1226; 33 U.S.C. 1231; Pub. L. 111-281, sec. 811

Abstract: This regulatory action will implement section 811 of the Coast Guard Authorization Act of 2010 (Pub. L. 111-281), which requires the owner/operator of a facility regulated by the Coast Guard under the Maritime Transportation Security Act of 2002 (Pub. L. 107-295) (MTSA) to provide a system that enables seafarers and certain other individuals to transit between vessels moored at the facility and the facility gate in a timely manner at no cost to the seafarer or other individual. Ensuring that such access through a facility is consistent with the security requirements in MTSA is part of the Coast Guard's Ports, Waterways, and Coastal Security (PWCS) mission.

Timetable:

Action | Date | FR Cite
NPRM | 12/29/14 | 79 FR 77981
NPRM Comment Period Reopened | 05/27/15 | 80 FR 30189
NPRM Comment Period End | 07/01/15 |
Final Rule | 01/00/18 |

Regulatory Flexibility Analysis Required: Yes.

Agency Contact: LCDR Yamaris Barril, Project Manager, Department of Homeland Security, U.S. Coast Guard, 2703 Martin Luther King Jr. Avenue SE, Commandant (CG-FAC-2) STOP 7501, Washington, DC 20593, Phone: 202 372-1151, Email: yamaris.d.barril@uscg.mil.

RIN: 1625-AC15

DEPARTMENT OF HOMELAND SECURITY (DHS)

U.S. Coast Guard (USCG)

Long-Term Actions

276. Outer Continental Shelf Activities

E.O. 13771 Designation: Other.

Legal Authority: 43 U.S.C. 1333(d)(1); 43 U.S.C. 1348(c); 43 U.S.C. 1356; DHS Delegation No 0170.1

Abstract: The Coast Guard is the lead Federal agency for workplace safety and health on facilities and vessels engaged in the exploration for, or development, or production of, minerals on the Outer Continental Shelf (OCS), other than for matters generally related to drilling and production that are regulated by the Bureau of Safety and Environmental Enforcement (BSEE). This project would revise the regulations on OCS activities by: (1) Adding new requirements, for OCS units for lifesaving, fire protection, training, and helidecks; (2) providing for USCG acceptance and approval of specified classification society plan reviews, inspections, audits, and surveys; and (3) requiring foreign vessels engaged in OCS activities to comply with rules similar to those imposed on U.S. vessels similarly engaged. This project would affect the owners and operators of facilities and vessels engaged in offshore activities.

Timetable:

Action | Date | FR Cite
Request for Comments | 06/27/95 | 60 FR 33185
Comment Period End | 09/25/95 |
NPRM | 12/07/99 | 64 FR 68416
NPRM Correction | 02/22/00 | 65 FR 8671
NPRM Comment Period Extended | 03/16/00 | 65 FR 14226
NPRM Comment Period Extended | 06/30/00 | 65 FR 40559
NPRM Comment Period End | 11/30/00
Next Action Undetermined | To Be Determined

Regulatory Flexibility Analysis Required: Yes.

Agency Contact: Charles Rawson, Project Manager, Department of Homeland Security, U.S. Coast Guard, Commandant (CG-ENG-2), 2703 Martin Luther King Jr. Avenue SE, STOP 7509, Washington, DC 20593-7509, Phone: 202 372-1390, Email: charles.e.rawson@uscg.mil.

RIN: 1625-AA18

277. Commercial Fishing Vessels—Implementation of 2010 and 2012 Legislation

E.O. 13771 Designation: Other.

Legal Authority: Pub. L. 111-281

Abstract: The Coast Guard proposes to implement those requirements of 2010 and 2012 legislation that pertain to uninspected commercial fishing industry vessels and that took effect upon enactment of the legislation but that, to be implemented, require amendments to Coast Guard regulations affecting those vessels. The applicability of the regulations is being changed, and new requirements are being added to safety training, equipment, vessel examinations, vessel safety standards, the documentation of maintenance, and the termination of unsafe operations. This rulemaking promotes the Coast Guard's maritime safety mission.

Timetable:

Action | Date | FR Cite
NPRM | 06/21/16 | 81 FR 40437
NPRM Comment Period Extended | 08/15/16 | 81 FR 53986
NPRM Comment Period End | 10/19/16
Second NPRM Comment Period End | 12/18/16
Final Rule | To Be Determined

Regulatory Flexibility Analysis Required: Yes.

Agency Contact: Jack Kemerer, Project Manager, CG-CVC-3, Department of Homeland Security, U.S. Coast Guard, 2703 Martin Luther King Jr. Avenue SE, STOP 7501, Washington, DC 20593-7501, Phone: 202 372-1249, Email: jack.a.kemerer@uscg.mil.

RIN: 1625-AB85

DEPARTMENT OF HOMELAND SECURITY (DHS)

U.S. Customs and Border Protection (USCBP)

Long-Term Actions

278. Importer Security Filing and Additional Carrier Requirements (Section 610 Review)

E.O. 13771 Designation: Regulatory.

Legal Authority: Pub. L. 109-347, sec. 203; 5 U.S.C. 301; 19 U.S.C. 66; 19 U.S.C. 1431; 19 U.S.C. 1433 to 1434; 19 U.S.C. 1624; 19 U.S.C. 2071 (note); 46 U.S.C. 60105

Abstract: This final rule implements the provisions of section 203 of the Security and Accountability for Every Port Act of 2006. On November 25, 2008, Customs and Border Protection (CBP) published an interim final rule (CBP Dec. 08-46) in the Federal Register (73 FR 71730), that finalized most of the provisions proposed in the NPRM. It requires carrier and importers to provide to CBP, via a CBP approved electronic data interchange system, certain advance information pertaining to cargo brought into the United States by vessel to enable CBP to identify high-risk shipments to prevent smuggling and ensure cargo safety and security. The interim final rule did not finalize six data elements that were identified as areas of potential concern for industry during the rulemaking process and, for which, CBP provided some type of flexibility for compliance with those data elements. CBP solicited public comment on these six data elements and also invited comments on the revised Regulatory Assessment and Final Regulatory Flexibility Analysis. (See 73 FR 71782-85 for regulatory text and 73 CFR 71733-34 for general discussion.) The remaining requirements of the rule were adopted as final.

Timetable:

Action | Date | FR Cite
NPRM | 01/02/08 | 73 FR 90
NPRM Comment Period End | 03/03/08
NPRM Comment Period Extended | 02/01/08 | 73 FR 6061
NPRM Comment Period End | 03/18/08
Interim Final Rule | 11/25/08 | 73 FR 71730
Interim Final Rule Effective | 01/26/09
Interim Final Rule Comment Period End | 06/01/09
Correction | 07/14/09 | 74 FR 33920
Correction | 12/24/09 | 74 FR 68376
Final Action | 03/00/19

Regulatory Flexibility Analysis Required: Yes.

Agency Contact: Craig Clark, Branch Chief, Advance Data Programs and Cargo Initiatives, Department of Homeland Security, U.S. Customs and Border Protection, 1300 Pennsylvania Avenue NW, Washington, DC 20229, Phone: 202 344-3052, Email: craig.clark@cbp.dhs.gov.

RIN: 1651-AA70

279. Implementation of the Guam-CNMI Visa Waiver Program (Section 610 Review)

E.O. 13771 Designation: Fully or Partially Exempt.

Legal Authority: Pub. L. 110-229, sec. 702

Abstract: The interim final rule amends Department of Homeland Security (DHS) regulations to implement section 702 of the Consolidated Natural Resources Act of 2008 (CNRA). This law extends the immigration laws of the United States to the Commonwealth of the Northern Mariana Islands (CNMI) and provides for a joint visa waiver program for travel to Guam and the CNMI. This rule implements section 702 of the CNRA by amending the regulations to replace the current Guam Visa Waiver Program with a new Guam-CNMI Visa Waiver Program. The amended regulations set forth the requirements for nonimmigrant visitors who seek admission for business or pleasure and solely for entry into and stay on Guam or the CNMI without a visa. This rule also establishes six ports of entry in the CNMI for purposes of administering and enforcing the Guam-CNMI Visa Waiver Program. Section 702 of the Consolidated Natural Resources Act of 2008 (CNRA), subject to a transition period, extends the immigration laws of the United States to the Commonwealth of the Northern Mariana Islands (CNMI) and provides for a visa waiver program for travel to Guam and/or the CNMI. On January 16, 2009, the Department of Homeland Security (DHS), Customs and Border Protection (CBP), issued an interim final rule in the Federal Register replacing the then-existing Guam Visa Waiver Program with the Guam-CNMI Visa Waiver Program and setting forth the requirements for nonimmigrant visitors seeking admission into Guam and/or the CNMI under the Guam-CNMI Visa Waiver Program. As of November 28, 2009, the Guam-CNMI Visa Waiver Program is operational. This program allows nonimmigrant visitors from eligible countries to seek admission for business or pleasure for entry into Guam and/or the CNMI without a visa for a period of authorized stay not to exceed 45 days. This rulemaking would finalize the January 2009 interim final rule.

Timetable:

Action | Date | FR Cite
Interim Final Rule | 01/16/09 | 74 FR 2824
Interim Final Rule Effective | 01/16/09
Interim Final Rule Comment Period End | 03/17/09
Technical Amendment; Change of Implementation Date | 05/28/09 | 74 FR 25387
Final Action | 11/00/18

Regulatory Flexibility Analysis Required: No.

Agency Contact: Stephanie Watson, Supervisory Program Manager, Department of Homeland Security, U.S. Customs and Border Protection, Office of Field Operations, 1300 Pennsylvania Avenue NW, 2.5B-38, Washington, DC 20229, Phone: 202 325-4548, Email: stephanie.e.watson@cbp.dhs.gov.

RIN: 1651-AA77

DEPARTMENT OF HOMELAND SECURITY (DHS)

U.S. Customs and Border Protection (USCBP)

Completed Actions

280. Waiver of Passport and VISA Requirements Due to an Unforeseen Emergency

E.O. 13771 Designation: Not subject to, not significant.

Legal Authority: 212(a)(7)(B) INA 8 U.S.C. 1182(a)(7)

Abstract: This rule reinstates a 1996 amendment to 8 CFR 212.1(g) regarding a waiver of documentary requirements for nonimmigrants seeking admission to the United States. The 1996 amendment allowed the former Immigration and Naturalization Service (INS) to waive passport and visa requirements due to an unforeseen emergency while preserving its ability to fine carriers for unlawfully transporting aliens to the United States who do not have a valid passport or visa. On November 20, 2009, the United States Court of Appeals for the Second Circuit invalidated the 1996 amendment based on procedural grounds.

Timetable:

Action | Date | FR Cite
NPRM | 03/08/16 | 81 FR 12032
NPRM Comment Period End | 05/09/16
Final Rule | 09/05/17 | 82 FR 41867
Final Rule Effective | 10/05/17

Regulatory Flexibility Analysis Required: Yes.

Agency Contact: Joseph R. O'Donnell, Program Manager, Fines, Penalties and Forfeitures Division, Department of Homeland Security, U.S. Customs and Border Protection, Office of Field Operations, 1300 Pennsylvania Avenue NW, Washington, DC 20229, Phone: 202 344-1691, Email: joseph.r.odonnell@dhs.gov.

RIN: 1651-AA97

DEPARTMENT OF HOMELAND SECURITY (DHS)

Transportation Security Administration (TSA)

Proposed Rule Stage

281. General Aviation Security and Other Aircraft Operator Security

E.O. 13771 Designation: Deregulatory.

Legal Authority: 6 U.S.C. 469; 18 U.S.C. 842; 18 U.S.C. 845; 46 U.S.C. 70102 to 70106; 46 U.S.C. 70117; 49 U.S.C. 114; 49 U.S.C. 114(f)(3); 49 U.S.C. 5103; 49 U.S.C. 5103a; 49 U.S.C. 40113; 49 U.S.C. 44901 to 44907; 49 U.S.C. 44913 to 44914; 49 U.S.C. 44916 to 44918; 49 U.S.C. 44932; 49 U.S.C. 44935 to 44936; 49 U.S.C. 44942; 49 U.S.C. 46105

Abstract: On October 30, 2008, the Transportation Security Administration (TSA) issued a notice of proposed rulemaking (NPRM), proposing to amend current aviation transportation security regulations to enhance the security of general aviation by expanding the scope of current requirements, and by adding new requirements for certain large aircraft operators and airports serving those aircraft. TSA also proposed that all aircraft operations, including corporate and private charter operations, with aircraft having a maximum certificated takeoff weight (MTOW) above 12,500 pounds (large aircraft) be required to adopt a large aircraft security program. TSA also proposed to require certain airports that serve large aircraft to adopt security programs. TSA has decided to not pursue this rulemaking.

Timetable:

Action | Date | FR Cite
NPRM | 10/30/08 | 73 FR 64790
NPRM Comment Period End | 12/29/08
Notice—NPRM Comment Period Extended | 11/25/08 | 73 FR 71590
NPRM Extended Comment Period End | 02/27/09
Notice—Public Meetings; Requests for Comments | 12/18/08 | 73 FR 77045
Notice of Withdrawal | 01/00/18

Regulatory Flexibility Analysis Required: Yes.

Agency Contact: Kevin Knott, Branch Manager, Industry Engagement Branch—Aviation Division, Department of Homeland Security, Transportation Security Administration, Office of Security Policy and Industry Engagement, 601 South 12th Street, Arlington, VA 20598-6028, Phone: 571 227-4370, Email: kevin.knott@tsa.dhs.gov.

Alex Moscoso, Chief Economist, Economic Analysis Branch—Cross Modal Division, Department of Homeland Security, Transportation Security Administration, Office of Security Policy and Industry Engagement, 601 South 12th Street, Arlington, VA 20598-6028, Phone: 571 227-5839, Email: alex.moscoso@tsa.dhs.gov.

Mardi Ruth Thompson, Senior Counsel, Regulations and Security Standards, Department of Homeland Security, Transportation Security Administration, Office of the Chief Counsel, 601 South 12th Street, Arlington, VA 20598-6002, Phone: 202 365-1850, Fax: 571 227-1379, Email: mardi.thompson@tsa.dhs.gov.

RIN: 1652-AA53

DEPARTMENT OF HOMELAND SECURITY (DHS)

Transportation Security Administration (TSA)

Final Rule Stage

282. Security Training for Surface Transportation Employees

Regulatory Plan: This entry is Seq. No. 57 in part II of this issue of the Federal Register.

RIN: 1652-AA55

DEPARTMENT OF HOMELAND SECURITY (DHS)

U.S. Immigration and Customs Enforcement (USICE)

Proposed Rule Stage

283. Procedures and Standards for Declining Surety Immigration Bonds and Administrative Appeal Requirement for Breaches

E.O. 13771 Designation: Not subject to, not significant.

Legal Authority: 8 U.S.C. 1103

Abstract: U.S. Immigration and Customs Enforcement (ICE) proposes to set forth standards and procedures ICE will follow before making a determination to stop accepting immigration bonds posted by a surety company that has been certified to issue bonds by the Department of the Treasury when the company does not cure deficient performance. Treasury administers the Federal corporate surety program and, in its current regulations, allows agencies to prescribe “for cause” standards and procedures for declining to accept bonds from Treasury-certified sureties. ICE would also require surety companies seeking to overturn a breach determination to file an administrative appeal raising all legal and factual defenses.

Timetable:

Action | Date | FR Cite
NPRM | 11/00/17 |

Regulatory Flexibility Analysis Required: Yes.

Agency Contact: Beth Cook, Deputy Chief, Office of the Principal Legal Advisor, Department of Homeland Security, U.S. Immigration and Customs Enforcement, Suite 200, 166 Sycamore Street, Williston, VT 05495, Phone: 802 288-7742, Email: beth.e.cook@ice.dhs.gov.

Molly Stubbs, ICE Regulatory Coordinator, Department of Homeland Security, U.S. Immigration and Customs Enforcement, 500 12th Street SW, Washington, DC 20536, Phone: 202 732-6202, Email: molly.stubbs@ice.dhs.gov.

Brad Tuttle, Attorney Advisor, Department of Homeland Security, U.S. Immigration and Customs Enforcement, 500 12th Street SW, Washington, DC 20536, Phone: 202 732-5000, Email: bradley.c.tuttle@ice.dhs.gov.

RIN: 1653-AA67

DEPARTMENT OF HOMELAND SECURITY (DHS)

Federal Emergency Management Agency (FEMA)

Proposed Rule Stage

284. Updates to Floodplain Management and Protection of Wetlands Regulations To Implement Executive Order 13690 and the Federal Flood Risk Management Standard

E.O. 13771 Designation: Deregulatory.

Legal Authority: E.O. 11988, as amended; 42 U.S.C. 5201; 6 U.S.C. 101 et seq.; . . .

Abstract: The Federal Emergency Management Agency (FEMA) plans to withdraw a notice of proposed rulemaking (NPRM) that published on August 22, 2016. The NPRM proposed changes to FEMA's “Floodplain Management and Protection of Wetlands” regulations to implement Executive Order 13690, which established the Federal Flood Risk Management Standard (FFRMS). FEMA also plans to withdraw a proposed supplementary policy (FEMA Policy: 078-3), which clarified how FEMA would apply the FFRMS. On August 15, 2017, the President issued Executive Order 13807, which revoked Executive Order 13690. Accordingly, FEMA plans to withdraw the NPRM and proposed supplementary policy.

Timetable:

Action | Date | FR Cite
NPRM | 08/22/16 | 81 FR 57401
NPRM Comment Period End | 10/21/16 |
Notice of Withdrawal | 03/00/18 |

Regulatory Flexibility Analysis Required: Yes.

Agency Contact: Kristin Fontenot, Office of Environmental and Historic Preservation, Department of Homeland Security, Federal Emergency Management Agency, 400 C Street SW, Washington, DC 20472, Phone: 202 646-2741, Email: kristin.fontenot@fema.dhs.gov.

RIN: 1660-AA85

[FR Doc. 2017-28212 Filed 1-11-18; 8:45 am]

BILLING CODE 9110-9B-P